DEPARTMENT OF THE INTERIOR

Office of the Secretary

Secretarial Commission on Indian Trust Administration and Reform

AGENCY: Office of the Secretary, Interior.

ACTION: Notice of meeting.

SUMMARY: The Office of the Secretary is announcing that the Secretarial Commission on Indian Trust Administration and Reform (the Commission) will hold a public webinar meeting on May 16, 2012. Having gathered valuable background information during the first meeting held in Washington, DC, March 1-2, 2012, the Commission is beginning to develop a comprehensive evaluation of how the Department of the Interior manages and administers trust responsibilities to American Indians. The Secretarial Commission's charter requires the Commission to provide well-reasoned and factually-based recommendations for potential improvements to the existing management and administration of the trust administration system. The Commission is committed to early public engagement and welcomes your participation in these important meetings.

DATES: The Commission's webinar meeting will begin at 3:30 p.m. and end at 6 p.m. Eastern Time on May 16, 2012. Attendance is open to the public, but limited space is available. Members of the public who wish to attend must RSVP by May 11, 2012, by registering at https://www1.gotomeeting.com/register/115154409. Instructions for joining the webinar will be emailed after registration occurs.

FOR FURTHER INFORMATION CONTACT: The Designated Federal Official, Jodi Gillette, Deputy Assistant Secretary—Indian Affairs, 1849 C Street NW., MS-4141, Washington, DC 20240; or email to Jodi.Gillette@bia.gov.

SUPPLEMENTARY INFORMATION: As part of President Obama's commitment to fulfilling this nation's trust responsibilities to Native Americans, the Secretary of the Interior appointed five members to serve on the Secretarial Commission on Indian Trust Administration and Reform, established under Secretarial Order No. 3292, dated December 8, 2009. The Commission will play a key role in the Department's ongoing efforts to empower Indian nations and strengthen nation-to-nation relationships.

The Commission will complete a comprehensive evaluation of the Department's management and administration of the trust assets within a two-year period and offer recommendations to the Secretary of the Interior of how to improve in the future. The Commission will:

(1) Conduct a comprehensive evaluation of the Department's management and administration of the trust administration system;

(2) Review the Department's provision of services to trust beneficiaries;

(3) Review input from the public, interested parties, and trust beneficiaries which should involve conducting a number of regional listening sessions;

(4) Consider the nature and scope of necessary audits of the Department's trust administration system;

(5) Recommend options to the Secretary to improve the Department's management and administration of the trust administration system based on information obtained from the Commission's activities, including whether any legislative or regulatory changes are necessary to permanently implement such improvements; and

(6) Consider the provisions of the American Indian Trust Fund Management Reform Act of 1994 providing for the termination of the Office of the Special Trustee for American Indians, and make recommendations to the Secretary regarding any such termination.

The following items will be on the agenda:

• Update on action items from March 2012 meeting;

• Report and discuss progress of subcommittees;

• Review and update work plan;

• Discuss draft communications and outreach plan;

• Report on Commission meeting dates and locations, anticipated agenda for June; and

• Public comments.

Written comments may be sent to the Designated Federal Official listed in the FOR FURTHER INFORMATION CONTACT section above. To review all related material on the Commission's work, please refer to http://www.doi.gov/cobell/commission/index.cfm. All meetings are open to the public.

Dated: April 20, 2012.
David J. Hayes,
Deputy Secretary.

[FR Doc. 2012-10092 Filed 4-25-12; 8:45 am]

BILLING CODE 4310-W7-P